DEPARTMENT OF THE INTERIOR

Bureau of Reclamation

[DOI-2023-0007; RR83570000, 23XR0680A4, RX.19520003.9WONTEL]

Privacy Act of 1974; System of Records

AGENCY: Bureau of Reclamation, Interior.

ACTION: Rescindment of a system of records notice.

SUMMARY: The Department of the Interior (DOI) is issuing a public notice of its intent to rescind the Bureau of Reclamation (Reclamation) Privacy Act system of records notice (SORN), INTERIOR/WBR-37, Trespass Cases, from its existing inventory. Reclamation has decommissioned records previously maintained within this system and migrated those records into the INTERIOR/DOI-10, Incident Management, Analysis and Reporting System. This rescindment will eliminate an unnecessary duplicate notice and promote the overall streamlining and management of DOI Privacy Act systems of records.

DATES: These changes take effect on June 8, 2023.

ADDRESSES: You may submit comments identified by docket number [DOI-2023-0007] by any of the following methods:

• Federal e-Rulemaking Portal: https://www.regulations.gov. Follow the instructions for submitting comments.

• Email: DOI_Privacy@ios.doi.gov. Include docket number [DOI-2023-0007] in the subject line of the message.

• U.S. Mail or Hand-Delivery: Teri Barnett, Departmental Privacy Officer, U.S. Department of the Interior, 1849 C Street NW, Room 7112, Washington, DC 20240.

Instructions: All submissions received must include the agency name and docket number [DOI-2023-0007]. All comments received will be posted without change to https://www.regulations.gov, including any personal information provided.

Docket: For access to the docket to read background documents or comments received, go to https://www.regulations.gov.

You should be aware your entire comment including your personally identifiable information, such as your address, phone number, email address, or any other personal information in your comment, may be made publicly available at any time. While you may request to withhold your personally identifiable information from public review, we cannot guarantee we will be able to do so.

FOR FURTHER INFORMATION CONTACT: Regina Magno, Associate Privacy Officer, Bureau of Reclamation, P.O. Box 25007, Denver, CO 80225, privacy@usbr.gov or (303) 445-3326.

SUPPLEMENTARY INFORMATION: Pursuant to the provisions of the Privacy Act of 1974, as amended, 5 U.S.C. 552a, Reclamation is rescinding the INTERIOR/WBR-37, Trespass Cases, SORN from its inventory. This system was used to manage Reclamation's trespass cases and investigations records. During a review of systems of records, Reclamation determined that trespass case records are covered by DOI's Department-wide SORN for incident reporting and law enforcement investigations, INTERIOR/DOI-10, Incident Management, Analysis and Reporting System, 79 FR 31974 (June 3, 2014); modification published at 86 FR 50156 (September 7, 2021). Reclamation has migrated trespass case records into the Department-wide system and is rescinding the INTERIOR/WBR-37, Trespass Cases, SORN to eliminate an unnecessary duplicate notice in accordance with OMB Circular A-108, Federal Agency Responsibilities for Review, Reporting, and Publication under the Privacy Act.

Rescinding the INTERIOR/WBR-37, Trespass Cases, SORN will have no adverse impacts on individuals as the records are covered under INTERIOR/DOI-10, Incident Management, Analysis and Reporting System, and individuals may continue to seek access or correction to their records under this notice. This rescindment will also promote the overall streamlining and management of DOI Privacy Act systems of records. This notice hereby rescinds the INTERIOR/WBR-37, Trespass Cases, SORN as identified below.

SYSTEM NAME AND NUMBER:

INTERIOR/WBR-37, Trespass Cases.

HISTORY:

64 FR 29876 (June 3, 1999); modification published at 73 FR 20949 (April 17, 2008).

Teri Barnett,
Departmental Privacy Officer, Department of the Interior.

[FR Doc. 2023-12257 Filed 6-7-23; 8:45 am]

BILLING CODE 4332-90-P